DEPARTMENT OF HOMELAND SECURITY

[Docket No. DHS-2013-0004]

National Infrastructure Advisory Council; Notice of Meeting

AGENCY: National Protection and Programs Directorate, DHS.

ACTION: Committee Management; Notice of an Open Federal Advisory Committee Meeting.

SUMMARY: The National Infrastructure Advisory Council (NIAC) will meet Monday, April 8, 2013, at the United States Access Board, 1331 F Street NW., Suite 800, Washington, DC 20004. The meeting will be open to the public.

DATES: The NIAC will meet Monday, April 8, 2013, from 1:30 p.m. to 4:30 p.m. The meeting may close early if the committee has completed its business. For additional information, please consult the NIAC Web site, www.dhs.gov/NIAC, or contact the NIAC Secretariat by phone at (703) 235-2888 or by email at NIAC@hq.dhs.gov.

ADDRESSES: United States Access Board, 1331 F Street NW., Suite 800, Washington, DC 20004.

Persons attending meetings in the Access Board's conference space are requested to refrain from using perfume, cologne, and other fragrances (see http://www.access-board.gov/about/policies/fragrance.htm for more information).

For information on facilities or services for individuals with disabilities or to request special assistance at the meeting, contact the person listed under FOR FURTHER INFORMATION CONTACT below as soon as possible.

To facilitate public participation, we are inviting public comment on the issues to be considered by the Council as listed in the “Summary” section below. Comments must be submitted in writing no later than 12:00 p.m. on April 8, 2013, and must be identified by “DHS-2013-0004” and may be submitted by any one of the following methods:

• Federal eRulemaking Portal: www.regulations.gov. Follow the instructions for submitting written comments.

• Email: NIAC@hq.dhs.gov. Include the docket number in the subject line of the message.

• Fax: (703) 603-5098.

• Mail: Nancy Wong, National Protection and Programs Directorate, Department of Homeland Security, 245 Murray Lane SW., Mail Stop 0607, Arlington, VA 20598-0607.

Instructions: All written submissions received must include the words “Department of Homeland Security” and the docket number for this action. Written comments received will be posted without alteration at www.regulations.gov, including any personal information provided.

Docket: For access to the docket to read background documents or comments received by the NIAC, go to www.regulations.gov.

Members of the public will have an opportunity to provide oral comments after the presentation of the report from the Regional Resilience Working Group. We request that comments be limited to the issues listed in the meeting agenda and previous NIAC studies. All previous NIAC studies can be located at www.dhs.gov/NIAC. Relevant public comments may be submitted in writing or presented in person for the Council to consider. Comments received by Nancy Wong after 12:00 p.m. on April 8, 2013, will still be accepted and reviewed by the members, but not necessarily by the time of the meeting. In-person presentations will be limited to three minutes per speaker, with no more than 30 minutes for all speakers. Parties interested in making in-person comments should register no later than 15 minutes prior to the beginning of the meeting at the meeting location.

FOR FURTHER INFORMATION CONTACT: Nancy Wong, National Infrastructure Advisory Council Designated Federal Officer, Department of Homeland Security, telephone (703) 235-2888.

SUPPLEMENTARY INFORMATION: Notice of this meeting is given under the Federal Advisory Committee Act, 5 U.S.C. App. (Pub. L. 92-463). The NIAC shall provide the President through the Secretary of Homeland Security with advice on the security and resilience of the Nation's critical infrastructure sectors and their information systems.

The NIAC will meet to discuss issues relevant to the critical infrastructure protection and resilience as directed by the President. At this meeting, the committee will receive and discuss a presentation from the NIAC Regional Resilience Working Group documenting their work to date on the Regional Resilience Study, which includes the role and impact of critical infrastructure on regional resiliency, best regional practices and models, and the contribution of public private partnerships. The presentation will be posted no later than one week prior to the meeting on the Council's public Web page on www.dhs.gov/NIAC. The Council will review and discuss the findings of the Working Group. Federal officials will brief the members on the recently issued Executive Order 13636 and Presidential Policy Directive 21 to receive comments. Federal officials will also provide further direction to the Council on the scope of the Working Group's study, and on potential new topics for study by the Council.

The Federal Advisory Committee Act requires that notices of meetings of advisory committees be announced in the Federal Register 15 days prior to the meeting date. However, this notice of the NIAC meeting is being published in the Federal Register on April 8, 2013, zero days prior to the meeting due to an immediate need by DHS to receive advice on the new implementation of Executive Order 13636 and Presidential Policy Directive 21. Both mandate comprehensive consultation with stakeholders in very short time lines for implementation. Although the meeting notice was published in the Federal Register late, the date of the meeting has been posted on the Council's public Web site on www.dhs.gov since January 2013. Additional outreach will be accomplished through trade and professional associations.

Meeting Agenda

I. Opening of Meeting

II. Roll Call of Members

III. Opening Remarks and Introductions

IV. NIAC Presentation on Regional Resilience Working Group

V. Public Comment: Discussion Limited to Meeting Agenda Items and Previous NIAC Studies

VI. Regional Resilience Working Group Discussion

VII. Briefing and Discussion on Executive Order 13636 and Presidential Policy Directive 21 by the Department of Homeland Security

VIII. Identification of Potential Areas to Recommend for Next NIAC Study

IX. Closing Remarks

Information on Services for Individuals With Disabilities

For information on facilities or services for individuals with disabilities or to request special assistance at the meeting, contact the NIAC Secretariat at (703) 235-2888 as soon as possible.

Dated: April 3, 2013.
Nancy Wong,
Designated Federal Officer for the NIAC.

[FR Doc. 2013-08143 Filed 4-5-13; 8:45 am]

BILLING CODE 9110-09-P